DEPARTMENT OF TRANSPORTATION

Federal Aviation Administration

Written Re-Evaluation and Record of Decision for the Final Environmental Impact Statement for the Relocation of the Panama City-Bay County International Airport

AGENCY: FAA, DOT.

ACTION: Notice of availability of written re-evaluation and Record of Decision for the Final Environmental Impact Statement for the Relocation of the Panama City-Bay County International Airport (2006) Release and Disposal of the Panama City-Bay County International Airport.

SUMMARY: In September 2006, the FAA issued a Record of Decision (ROD) for actions associated with the proposed relocation of the Panama City-Bay County International Airport (PFN) in Bay County, Florida. The FAA's ROD was based on information and analysis contained in the FAA's 2006 FEIS for the project. The new airport approved in the 2006 ROD was named the Northwest Florida Beaches International Airport (ECP), and began operations at the new site in May 2010. The FAA noted in the 2006 FEIS that further federal action would be necessary to decommission and dispose of the existing airport property from aeronautical use, and that additional environmental review would be necessary due to the preliminary nature of the redevelopment information. In April 2010, the Airport Sponsor requested full release of the old airport property from federal grant obligations. Subsequent to this request, the FAA published a notice in the Federal Register (FR) in August 2010, regarding the intent to rule on the Panama City-Bay County Airport and Industrial District (Airport Sponsor) request to release airport property at PFN. The Federal Action addressed in the written reevaluation is FAA approval of the disposal (closure) of the Panama City-Bay County International Airport (PFN) property and release of PFN's grant obligations. Based on the best information currently available regarding reuse of the PFN site, the written reevaluation assessed the continuing validity of the environmental analysis contained in the 2006 FEIS with regard to the disposal and release actions requested by the Airport Sponsor. After the written reevaluation was completed and based on information contained therein, the FAA signed a ROD environmentally approving disposal of the property and release of grant obligations on May 5, 2011. This is not, however, the final step in the disposal and release process. Upon FAA's final approval of the disposal of the property, the Airport Sponsor will be released from their grant obligations over the property known as PFN.

FOR FURTHER INFORMATION CONTACT: Virginia Lane, Environmental Protection Specialist, Federal Aviation Administration, Orlando Airports District Office, 5950 Hazeltine National Drive, Suite 400, Orlando, FL 32822-5024. 407-812-6331 Ext. 129.

Issued in Orlando, Florida, on May 12, 2011.
W. Dean Stringer,
Manager, FAA Orlando Airports District Office.

[FR Doc. 2011-12359 Filed 5-18-11; 8:45 am]

BILLING CODE 4910-13-P